DEPARTMENT OF TRANSPORTATION

Federal Aviation Administration

Notice of Intent To Rule on Application 03-04-C-00-ILM To Impose and Use the Revenue From a Passenger Facility Charge (PFC) at Wilmington International Airport, Wilmington, NC

AGENCY: Federal Aviation Administration (FAA), DOT.

ACTION: Notice of intent to rule on application.

SUMMARY: The FAA proposes to rule and invites public comment on the application to impose and use the revenue from a PFC at Wilmington International Airport under the provisions of the Aviation Safety and Capacity Expansion Act of 1990 (title IX of the Omnibus Budget Reconciliation Act of 1990) (Pub. L. 101-508) and part 158 of the Federal Aviation Regulations (14 CFR part 158).

DATES: Comments must be received on or before March 27, 2003.

ADDRESSES: Comments on this application may be mailed or delivered in triplicate to the FAA at the following address: Atlanta Airports District Office, 1701 Columbia Avenue, Suite 2-260, College Park, GA 30337.

In addition, one copy of any comments submitted to the FAA must be mailed or delivered to Jon W. Rosborough, Airport Director, of the New Hanover County Airport Authority at the following address: 1740 Airport Boulevard, Wilmington, NC 28405.

Air carriers and foreign air carriers may submit copies of written comments previously provided to the New Hanover County Airport Authority under section 158.13 of part 158.

FOR FURTHER INFORMATION CONTACT: Tracie D. Kleine, Program Manager, Atlanta Airports District Office, 1701 Columbia Avenue, Suite 2-260, College Park, Georgia 30337 (404) 305-7148. The application may be reviewed in person at this same location.

SUPPLEMENTARY INFORMATION: The FAA proposes to rule and invites public comment on the application to impose and use the revenue from a PFC at Wilmington International Airport under the provisions of the Aviation Safety and Capacity Expansion Act of 1990 (title IX of the Omnibus Budget Reconciliation Act of 1990) Pub. L. 101-508) and part 158 of the Federal Aviation Regulations (14 CFR part 158).

On February 12, 2003, the FAA determined that the application to impose and use the revenue from a PFC submitted by New Hanover Airport Authority was substantially complete within the requirements of § 158.25 of part 158. The FAA will approve or disapprove the application, in whole or in part, no later than May 21, 2003.

The following is a brief overview of the application.

PFC Application No.: 03-04-C-00-ILM.

Level of the proposed PFC: $4.50.

Proposed charge effective date: April 1, 2007.

Proposed charge expiration date: April 1, 2018.

Total estimated net PFC revenue: $12,985,648.

Brief description of proposed project(s):

Impose Only:

Install Instrument Landing System.

Impose and Use:

Rehabilitate Terminal; Construct New Customs Facility; Update Master Plan; Runway 35 Approach Clearing; PFC Administrative Costs; Rehabilitate Runway and Taxiway (Runway 6-24, Runway 17-35, Taxiway A, and Taxiway B); Land Acquisition; Construct Airfield Retention Pond; Construct De-icing Retention System.

Class or classes of air carriers which the public agency has requested not be required to collect PFCs: Non-scheduled/on-demand air taxi operators (ATCO) filing FAA Form 1800-31.

Any person may inspect the application in person at the FAA office listed above under FOR FURTHER INFORMATION CONTACT.

In addition, any person may, upon request, inspect the application, notice and other documents germane to the application in person at the New Hanover County Airport Authority.

Issued in College Park, Georgia on February 12, 2003.
Scott L. Seritt,
Manager, Atlanta Airports District Office, Southern Region.

[FR Doc. 03-4326 Filed 2-24-03; 8:45 am]

BILLING CODE 4910-13-M